INTERNATIONAL TRADE COMMISSION

[Investigation No. 337-TA-563]

In the Matter of Certain Portable Power Stations and Packaging Therefor; Issuance of a Limited Exclusion Order Against Respondent Found in Default; Termination of Investigation

AGENCY: U.S. International Trade Commission.

ACTION: Notice.

SUMMARY: Notice is hereby given that the U.S. International Trade Commission has issued a limited exclusion order against the respondent found in default in the above-captioned investigation and has terminated the investigation.

FOR FURTHER INFORMATION CONTACT: Clint Gerdine, Esq., Office of the General Counsel, U.S. International Trade Commission, 500 E Street, SW., Washington, DC 20436, telephone (202) 708-5468. Copies of non-confidential documents filed in connection with this investigation are or will be available for inspection during official business hours (8:45 a.m. to 5:15 p.m.) in the Office of the Secretary, U.S. International Trade Commission, 500 E Street, SW., Washington, DC 20436, telephone (202) 205-2000. General information concerning the Commission may also be obtained by accessing its Internet server at http://www.usitc.gov. The public record for this investigation may be viewed on the Commission's electronic docket (EDIS) at http://edis.usitc.gov. Hearing-impaired persons are advised that information on this matter can be obtained by contacting the Commission's TDD terminal on (202) 205-1810.

SUPPLEMENTARY INFORMATION: The Commission instituted this investigation on March 14, 2006, based on a complaint filed by Roadmaster (USA) Corporation (“Roadmaster”) of Eatontown, New Jersey. The complaint, as amended and supplemented, alleges violations of section 337 of the Tariff Act of 1930, as amended, 19 U.S.C. 1337, in the importation into the United States, the sale for importation, and the sale within the United States after importation of certain portable power stations and packaging therefor by reason of infringement of U.S. Design Patent No. D469,730; U.S. Trademark Registration No. 2,594,538; and U.S. Copyright Registration No. VA-1-261-495. The complaint further alleges the existence of a domestic industry. The Commission's notice of investigation names Sinochem Ningbo, Ltd. (“Sinochem”), of Ningbo, China, as the only respondent.

The administrative law judge (“ALJ”) issued an initial determination on July 12, 2006, finding Sinochem in default, because the respondent failed to reply to the complaint or notice of investigation, and also failed to reply to a show cause order issued by the ALJ on May 24, 2006. The Commission declined to review the ALJ's determination that the respondent Sinochem defaulted.

On August 23, 2006, the Commission issued a notice requesting briefing on the issues of remedy, the public interest, and bonding relating to the default finding of unlawful importation and sale of infringing products by Sinochem. 71 FR 51210 (Aug. 29, 2006). Complainant submitted a brief along with a proposed order on September 5, 2006. The Commission investigative attorney (“IA”) also submitted a brief along with a proposed order on September 6, 2006, and further submitted a reply brief on September 13, 2006. The Complainant chose not to file a reply brief.

Having examined the record of this investigation, including the submissions of the parties, the Commission has determined that each of the statutory requirements of section 337(g)(1), 19 U.S.C. 1337(g)(1), has been met with respect to defaulting respondent Sinochem. Accordingly, pursuant to section 337(g)(1), 19 U.S.C. 1337(g)(1) and Commission Rule 210.16(c), 19 CFR 210.16(c), the Commission presumed the facts alleged in the complaint to be true. The Commission determined that the appropriate form of relief in this investigation is a limited exclusion order prohibiting the unlicensed entry of portable power stations and packaging therefor covered by U.S. Design Patent No. D469,739; U.S. Trademark Registration No. 2,594,538; or U.S. Copyright Registration No. VA-1-261-495 that are manufactured abroad by or on behalf of, or imported by or on behalf of, Sinochem or any of its affiliated companies, parents, subsidiaries, or other related business entities, or their successors or assigns.

The Commission further determined that the public interest factors enumerated in section 337(g)(1), 19 U.S.C. 1337(g)(1), do not preclude issuance of the limited exclusion order. Finally, the Commission determined that the amount of bond to permit temporary importation during the Presidential review period, under 19 U.S.C. 1337(j), shall be in the amount of 100 percent of the entered value of the infringing imported portable power stations and packaging therefor. The Commission's order was delivered to the President and the United States Trade Representative on the day of its issuance.

The authority for the Commission's determination is contained in section 337 of the Tariff Act of 1930, as amended, 19 U.S.C. 1337, and in section 210.16(c) of the Commission's Rules of Practice and Procedure, 19 CFR 210.16(c)).

By order of the Commission.
Issued: November 9, 2006.
Marilyn R. Abbott,
Secretary to the Commission.

[FR Doc. E6-19244 Filed 11-14-06; 8:45 am]

BILLING CODE 7020-02-P